DEPARTMENT OF COMMERCE

National Oceanic and Atmospheric Administration

RIN 0648-XH92

Fisheries of the South Atlantic and Gulf of Mexico; Southeast Data, Assessment, and Review (SEDAR) 16 King Mackerel Assessment Panel Meeting

AGENCY: National Marine Fisheries Service (NMFS), National Oceanic and Atmospheric Administration (NOAA), Commerce.

ACTION: Notice of SEDAR 16-South Atlantic and Gulf of Mexico King Mackerel Post-Assessment Workshop Conference Call.

SUMMARY: The SEDAR 16 Assessment Panel will be holding a conference call to review preliminary assessment model results, select a preferred assessment model, and discuss future analysis needs. See SUPPLEMENTARY INFORMATION.

DATES: The SEDAR 16 Assessment Workshop Panel will meet on Friday, May 30, 2008, from 12 p.m. to 3 p.m. (EST).

ADDRESSES: The meeting will be held via conference call. Listening stations are available at the following locations: South Atlantic Fishery Management Council, 4055 Faber Place Drive #201, North Charleston, SC 29405; and the Gulf of Mexico Fishery Management Council, 2203 North Lois Avenue, Suite 1100, Tampa, FL 33607.

FOR FURTHER INFORMATION CONTACT: Julie A. Neer, SEDAR Coordinator, SAFMC, 4055 Faber Place, Suite 201, North Charleston, SC 29405; phone (843) 571-4366 or toll free (866) SAFMC-10; FAX (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks.

During this conference call the SEDAR 16 King Mackerel Assessment Panel will follow-up on activities from its May 5-9, 2008 meeting to review preliminary assessment model results, select a preferred assessment model, and discuss future analysis needs.

Special Accommodations

These meetings are physically accessible to people with disabilities. Requests for sign language interpretation or other auxiliary aids should be directed to the South Atlantic Fishery Management Council office at the address listed above at least 10 business days prior to the meeting.

Dated: May 9, 2008,
Tracey L. Thompson,
Acting Director, Office of Sustainable Fisheries, National Marine Fisheries Service.

[FR Doc. E8-10749 Filed 5-13-08; 8:45 am]

BILLING CODE 3510-22-S